DEPARTMENT OF COMMERCE

National Oceanic and Atmospheric Administration

DEPARTMENT OF THE INTERIOR

Fish and Wildlife Service

[I.D. 052605A]

Marine Mammals and Endangered Species; National Marine Fisheries Service File No. 1008-1637; U.S. Fish and Wildlife Service File No. MA100875

AGENCIES: National Marine Fisheries Service (NMFS), National Oceanic and Atmospheric Administration (NOAA), Commerce; U.S. Fish and Wildlife Service, Interior.

ACTION: Receipt of application.

SUMMARY: Notice is hereby given that John Wise, Ph.D., Maine Center for Toxicology and Environmental Health, University of Southern Maine, P.O. Box 9300, Portland, ME 04104, has applied in due form for an amendment to Permit No. 1008-1637-01.

DATES: Written, telefaxed, or e-mail comments must be received on or before July 20, 2005.

ADDRESSES: The application and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1008-1637/MA100875.

FOR FURTHER INFORMATION CONTACT: Amy Sloan or Jennifer Skidmore, Office of Protected Resources, NMFS, (301) 713-2289.

SUPPLEMENTARY INFORMATION: The subject permit amendment is requested under the authority of the Marine Mammal Protection Act of 1972, as amended (MMPA; 16 U.S.C. 1361 et seq.); the Regulations Governing the Taking and Importing of Marine Mammals (50 CFR parts 18 and 216); the Endangered Species Act of 1973, as amended (ESA; 16 U.S.C. 1531 et seq.); and the regulations governing the taking, importing, and exporting of endangered and threatened species (50 CFR parts 17 and 222-226).

Permit No. 1008-1637-01 authorizes Dr. Wise to receive and import and export (to and from Canada) hard and soft parts from all marine mammal species under NMFS jurisdiction for purposes of developing cell lines to determine tissue levels of metals in marine mammal species and to establish a national resource of cell lines for use as model systems in the investigation of various factors related to marine mammal health (e.g., toxicity of metals, virology, etc.). The cell lines may not be sold for profit or used for commercial purposes. Marine mammal parts may be obtained and cell lines developed from the following sources: import from stranded dead marine mammals collected as part of government-authorized marine mammal stranding response operations along the coast of British Columbia, Canada; stranded dead marine mammals in the United States (U.S.); marine mammals that have died during rehabilitation efforts in the U.S.; animals killed during subsistence harvests; soft parts that are discharged naturally by a living threatened or endangered species in the wild; animals that died incidental to commercial fishing if such taking is legal, or other legal operations of the U.S. and Canada; and specimens collected during permitted research activities in the U.S. Exports to Canada of such parts or cell lines are authorized.

The applicant requests authorization to (1) import and export parts and cell lines worldwide; and (2) add USFWS species to the permit, including walrus (Odobenus rosmarus), polar bear (Ursus maritmus), northern sea otter (Enhydra lutris lutris), southern sea otter (Enhydra lutris nereis), marine otter (Lontra felina), dugong (Dugong dugon), West Indian manatee (Trichechus manatus), Amazonian manatee (Trichechus inunguis), and West African manatee (Trichechus senegalensis). The applicant requests a 5-year amendment.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301) 713-2289; fax (301) 427-2521;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Pacific Islands Region, NMFS, 1601 Kapiolani Blvd., Rm 1110, Honolulu, HI 96814-4700; phone (808) 973-2935; fax (808) 973-2941;

Northeast Region, NMFS, One Blackburn Drive, Gloucester, MA 01930-2298; phone (978) 281-9200; fax (978) 281-9371;

Southeast Region, NMFS, 263 13th Avenue South, St. Petersburg, FL 33701; phone (727) 824-5312; fax (727) 824-5309; and

U.S. Fish and Wildlife Service, Division of Management Authority, 4401 North Fairfax Drive, Room 700, Arlington, VA 22203 (1-800-358-2104).

Dated: June 14, 2005.
Stephen L. Leathery,
Chief, Permits, Conservation and Education Division, Office of Protected Resources, National Marine Fisheries Service.

Dated: June 14, 2005.
Charlie R. Chandler,
Chief, Branch of Permits, Division of Management Authority, U.S. Fish and Wildlife Service.

[FR Doc. 05-12107 Filed 6-17-05; 8:45 am]

BILLING CODE 3510-22-S